DEPARTMENT OF JUSTICE

Office of Justice Programs

[OJP (OVC) Docket No. 1677]

Meeting of the National Coordination Committee on the American Indian/Alaska Native Sexual Assault Nurse Examiner—Sexual Assault Response Team Initiative

AGENCY: Office for Victims of Crime, Justice Programs Office, Justice.

ACTION: Notice of meeting.

SUMMARY: The National Coordination Committee on the American Indian/Alaska Native (AI/AN) Sexual Assault Nurse Examiner (SANE)—Sexual Assault Response Team (SART) Initiative (“National Coordination Committee” or “Committee”) will meet to carry out its mission to provide advice to assist the Office for Victims of Crime (OVC) to promote culturally-relevant, victim-centered responses to sexual violence within AI/AN communities.

DATES: Dates and Locations: The meeting will be held on Tuesday, December 9, 2014 on the reservation of the Agua Caliente Band of Cahuilla Indians at the Renaissance Hotel (888 E. Tahquitz Canyon Way, Palm Springs, CA). The meeting will be held in conjunction with the 14th National Indian Nations Conference and is open to the public. There will be a designated time for the public to speak, and the public can observe and submit comments in writing to Shannon May, the Designated Federal Official. To register for the meeting and/or for more information about the meeting room location, please provide your full contact information to Shannon May (contact information below).

FOR FURTHER INFORMATION CONTACT: Shannon May, Designated Federal Officer (DFO) for the National Coordination Committee, Federal Bureau of Investigation, Office for Victim Assistance, 935 Pennsylvania Ave. NW., Room 3329, Washington, DC 20535; Phone: (202) 323-9468 [note: this is not a toll-free number]; Email: shannon.may@ic.fbi.gov.

SUPPLEMENTARY INFORMATION: The National Coordination Committee on the American Indian/Alaskan Native (AI/AN) Sexual Assault Nurse Examiner (SANE)—Sexual Assault Response Team (SART) Initiative (“National Coordination Committee” or “Committee”) was established by the Attorney General to provide valuable advice to OVC to encourage the coordination of federal, tribal, state, and local efforts to assist victims of sexual violence within AI/AN communities, and to promote culturally relevant, victim-centered responses to sexual violence within those communities.

Meeting Agenda: The agenda will include: (a) A traditional welcome and introductions; (b) remarks from the Director of OVC; (c) an update on the presentation of the Committee's Recommendations Report to the Attorney General; (d) discussions about the dissemination of the Report and the ongoing role of the Committee; (e) comments by members of the public; and (f) a traditional closing.

Shannon May,
Project Manager—Victims of Crime, National Coordinator, AI/AN SANE-SART Initiative, Designated Federal Official—National Coordination Committee, Federal Bureau of Investigation, Office for Victim Assistance.

[FR Doc. 2014-25313 Filed 10-23-14; 8:45 am]

BILLING CODE 4410-18-P